DEPARTMENT OF TRANSPORTATION

Federal Aviation Administration

57th Meeting: RTCA Special Committee 186, Automatic Dependent Surveillance Broadcast (ADS-B)

AGENCY: Federal Aviation Administration (FAA), U.S. Department of Transportation (DOT).

ACTION: Meeting Notice of RTCA Special Committee 186, Automatic Dependent Surveillance Broadcast (ADS-B).

SUMMARY: The FAA is issuing this notice to advise the public of the 57th meeting of RTCA Special Committee 186, Automatic Dependent Surveillance Broadcast (ADS-B)

DATES: The meeting will be held August 23, 2012, from 9 a.m.-5 p.m.

ADDRESSES: The meeting will be held at RTCA, Inc., 1150 18th Street NW., Suite 910, MacIntosh-NBAA Room and Colson Board Room, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 186. The agenda will include the following:

August 23, 2012

• Chairman's Introductory Remarks

• Review of Meeting Agenda

• Review/Approval of the Fifty-Sixth Meeting Summary, RTCA Paper No. 142-12/SC186-321

• EUROCAE WG-51—Status & Activities

• FAA Surveillance and Broadcast Services (SBS) Program—Status

• Working Group Reports

• WG-1—Operations and Implementation—no report

• WG-2—TIS-B MASPS—no report

• WG-3—1090 MHz MOPS—no report

• WG-4—Application Technical Requirements—Status

Traffic Situation Awareness with Alerts (TSAA)

Flight-deck Interval Management (FIM)

• WG-5—UAT MOPS—no report

• WG-6—Combined ADS-B & ASA MASPS—no report

ATSSA MASPS published in June by RTCA as DO-338

• Date, Place and Time of Next Meeting

• New Business

• Other Business

• Aircraft-level Flight Crew Alerting on ADS-B Equipment Failures

• Review Action Items/Work Programs

• Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 27, 2012.
Kathy Hitt,
Management Analyst, Business Operations Branch, Federal Aviation Administration.

[FR Doc. 2012-18942 Filed 8-1-12; 8:45 am]

BILLING CODE 4910-13-P